DEPARTMENT OF STATE

22 CFR Part 42

[Public Notice: 12281]

RIN 1400-AF76

Visas: Enhancing Vetting and Combatting Fraud in the Diversity Immigrant Visa Program

AGENCY: Department of State.

ACTION: Notice of proposed rulemaking.

SUMMARY: The Department of State (“Department”) proposes to amend regulations governing the Diversity Immigrant Visa Program (“DV Program”) to improve the integrity and combat fraud in the program. The Department proposes to require petitioners to the DV Program to provide valid, unexpired passport information and a scan of the biographic and signature page uploaded to their electronic entry form, or otherwise indicate that they are exempt from this requirement. Additionally, the Department also proposes to standardize and amend language in 22 CFR part 42, including by adding the word “shall” to simplify guidance for consular officers; ensuring the use of the term “sex” in lieu of “gender” as mandated by Executive Order 14168; and replacing the term “age” in 22 CFR 42.33(h)(1)(i) with the phrase “date of birth” to accurately reflect the information collected and maintained by the Department during the immigrant visa process.

DATES: Written comments and related materials must be received on or before midnight Eastern Daylight Time on September 19, 2025.

ADDRESSES: Interested parties may submit comments, identified by Department docket number DOS-2025-0001 or RIN 1400-AF76, through the Federal eRulemaking Portal at http://www.regulations.gov. Follow the website instructions for submitting comments. A summary of this rule is also available at www.regulations.gov by searching for RIN 1400-AF76.

Comments submitted in a manner other than the one listed above, including via emails or letters sent to Department officials, will not be considered comments on the NPRM, and may not be considered by the Department.

FOR FURTHER INFORMATION CONTACT: Visa Services, Bureau of Consular Affairs, Department of State; telephone: (202) 486-7586; email: VisaRegs@state.gov.

Public Participation: The Department invites all interested parties to submit written data, views, comments, and arguments on all aspects of this proposed rule. Comments must be submitted in English, or an English translation must be provided. Comments that will provide the most assistance to the Department in implementing this change will reference a specific portion of the NPRM, explain the reason for any recommended change, and include information that supports the recommended change.

Instructions: If you submit a comment, you must include the RIN 1400-AF76 for this NPRM in the title or body of the comment. Submitted comments will be publicly posted to the Federal eRulemaking Portal at www.regulations.gov. Therefore, you may wish to consider limiting the amount of personal information that you provide. The Department may withhold from public viewing information provided in comments that it determines offensive. You should not submit case inquiries or include case numbers in your comment. For additional information, please read the Privacy Act notice available in the footer at www.regulations.gov.

Docket: For access to the docket and to read background documents or comments received, go to www.regulations.gov, referencing Department Docket Number DOS-2025-0001. You may also sign up for email alerts on the online docket to be notified when comments are posted or a final rule is published.

SUPPLEMENTARY INFORMATION:

I. Background

The DV Program is administered by the Department of State. Section 203(c) of the Immigration and Nationality Act (“INA”), 8 U.S.C. 1101 et seq., makes diversity visas available to aliens who are “natives” of “low-admission” states, subject to certain numerical limitations. The INA defines “low-admission states” as those with equal to or fewer than 50,000 natives admitted to the United States during the most recent five-year period. INA section 203(c)(1)(B)(ii). Millions of petitioners register annually for the DV Program through an electronic entry form.¹

¹ Aliens who enter the DV Program are referred to as “petitioners.” Petitioners in the DV Program who are selected are referred to as “selectees” for a Diversity Immigrant Visa. The Department's Electronic Diversity Visa website. https://dvprogram.state.gov/.

Under section 204(a)(1)(I)(iii) of the INA, petitions (also referred to as “entries”) for the DV Program must be in the form prescribed in regulations by the Secretary of State (“Secretary”) and contain all information and be supported by documentary evidence that the Secretary requires. As provided in Department regulations at 22 CFR 42.33, the entry form collects information on the petitioner's full name; date and place of birth; sex; native country, if different from place of birth; current mailing address; and location of the consular post nearest to their residence, where the application for a diversity immigrant visa (“DV”) should generally be adjudicated if the petitioner is selected and scheduled for an interview through the DV Program. The electronic entry form also collects information about the names, dates, and places of birth of the petitioner's spouse and children.

After the close of the DV Program entry period,² certain petitioners are selected through a randomized computer drawing (“selectees”), and selectees may apply for a DV or, if physically present in the United States and otherwise eligible, may apply to adjust status as a diversity immigrant, see INA section 245(a). Under section 201(e) of the INA, the number of available DVs each year is 55,000.³ To be issued an immigrant visa as a diversity immigrant, individuals must establish their qualifications and eligibility for the visa in accordance with the INA and Department regulations.

² A full description of the Diversity Visa Program, including information about each step in the process, can be found at: https://travel.state.gov/content/travel/en/us-visas/immigrate/diversity-visa-program-entry/diversity-visa-submit-entry1.html.

³ While section 201(e) of the INA authorizes the allocation of 55,000 diversity visas annually, up to 5,000 of these visas may be set aside for use under the Nicaraguan Adjustment and Central American Relief Act, as amended by the National Defense Authorization Act for Fiscal Year 2024. See Public Law 105-100, 203(d) (1997) (8 U.S.C. 1151 note); Public Law 118-31, 5104 (2023).

II. Fraud and Criminal Entities Hijacking the Process

The Department has historically encountered significant numbers of fraudulent entries for the DV Program each year, including entries submitted by third parties, some of them criminal enterprises, on behalf of individuals without their knowledge. Unauthorized third parties will often then contact the unwitting individual, inform them of the opportunity to apply for a DV, and hold the entry information from the petitioner in exchange for payment or to coerce the petitioner to be complicit in certain acts of fraud. This type of fraud is prevalent enough that the Federal Trade Commission addressed it in a 2012 YouTube video about DV fraud.⁴

⁴ Diversity Visa Lottery Scams | Federal Trade Commission—YouTube, available at https://www.youtube.com/watch?v=mOnSN8Pbak0.

One of the more egregious examples of large-scale third-party fraud occurred in 2012 when Embassy Dhaka (Bangladesh) reported through official channels that one IP address was responsible for more than 634,000 entries. Bangladeshi authorities investigated the facilitators and found computers with thousands of applications, along with fake education documents and staged marriage photos.

Similarly, a Department Office of the Inspector General (OIG) report ⁵ highlighted Embassy Kyiv's (Ukraine) account of organized fraud rings masquerading as travel agencies taking control of the DV Program in Ukraine. By buying, stealing, or otherwise obtaining from public sources, personal information about Ukrainian citizens, the fraud ring entered these Ukrainian citizens' names in the online DV Program website, often without their permission or awareness. The fraud ring then contacted hundreds of Ukrainian selectees and required them to pay up to $15,000 to obtain the confirmation number. If the selectee could not pay, the fraud ring often insisted that he or she enter into a sham marriage with a person who had expressed interest in immigrating to the United States. In such a case, the “sham spouse” would pay a substantial amount of money to be paired with a DV selectee. This type of fraud continues to be widespread.

⁵ ISP-I-13-45A Department of State, OIG, Inspection of Embassy Kyiv, Ukraine, September 2013.

Another form of fraud involves the creation or submission of false documents that the scammer claims will enhance a petitioner's chances of selection or approval. This can include counterfeit educational documents, fake work experience letters, or manipulated photographs as evidence of a marital relationship. In 2023, Embassy Phnom Penh (Cambodia) reported seeing old ID photos that fixers had photoshopped by changing the clothes or background to attempt to circumvent the requirement for a recent photo. The report stated that visa scammers in Cambodia can charge fees ranging from $5,000 to $30,000 to prepare a DV case, including providing fake education or work documents. Embassy Chisinau (Moldova) also reported a collaborative effort in 2023 from their consular section and Overseas Criminal Investigations Unit (OCIU) that detected and thwarted a scheme by a corrupt university official who provided some DV winners with fraudulent diplomas.

To protect Americans and U.S. interests from persons who intend to threaten U.S. national security, the Department continues to take steps to reduce the fraud in the DV petition and application process. Requiring passport information on the DV petition would make it much more difficult for unauthorized third parties to enter someone with partial information. This measure would also enable the Department to more effectively and efficiently confirm petitioners' identities. The Department also anticipates that these measures would decrease the number of fraudulent marriages encountered in the DV program. Identifying fraudulent petitioners at the petition stage saves time and effort on the part of adjudicating officers who otherwise dedicate significant resources trying to clarify discrepancies between a petitioner's DV petition and the visa application, and whether the petitioner's explanation is credible or the petition was fraudulent.

III. Passport Requirement Would Reduce Fraud and Aid in Identity Verification

Under this proposed rule, the Department would amend 22 CFR 42.33(b)(1) regarding the information required on DV entry forms to require the petitioner to include the unique serial or issuance number associated with the petitioner's valid, unexpired passport (as defined in both INA section101(a)(30) ⁶ and 22 CFR 42.64(a) ⁷), the name on the passport, the country or authority of passport issuance, and the passport expiration date, as well as a scanned version of the passport's biographic and signature page(s). A similar requirement for a valid passport number was initially put in place as an Interim Final Rule in 2019,⁸ which was vacated on procedural grounds in 2022, corresponding to the 2021, 2022, and 2023 DV Program years.⁹

⁶ INA sec. 101(a)(30), 8 U.S.C. 1101(a)(30 (“The term ‘passport’ means any travel document issued by competent authority showing the bearer's origin, identity, and nationality if any, which is valid for the admission of the bearer into a foreign country.”).

⁷ 22 CFR 42.64(a) (“Passport, as defined in INA 101(a)(30), is not limited to a national passport or to a single document. A passport may consist of two or more documents which, when considered together, fulfill the requirements of a passport, provided that documentary evidence of permission to enter a foreign country has been issued by a competent authority and clearly meets the requirements of INA 101(a)(30).”).

⁸ See Visas: Diversity Immigrants, 84 FR 25989 (June 5, 2019).

⁹ See E.B. v. U.S. Dep't of State, 583 F. Supp. 3d 58 (D.D.C. 2022). In that case, the court held that the 2019 Interim Final Rule violated the Administrative Procedure Act because the Department should have pursued notice and comment rulemaking as it is undertaking here. Because the registration period for the 2023 DV Program Year had already taken place at the time of the court's decision, 2024 was the first Program Year in which the Department no longer required a passport at the registration period.

This proposed rule significantly enhances the Department's ability to confirm the petitioners' identity as directed under the administration's Executive Order 14161, “Protecting the United States from Foreign Terrorists and Other National Security and Public Safety Threats,” signed January 20, 2025, which specifically directs the Secretary of State and other agencies to:

“(ii) determine the information needed from any country to adjudicate any visa, admission, or other benefit under the INA for one of its nationals, and to ascertain whether the individual seeking the benefit is who the individual claims to be and that the individual is not a security or public-safety threat.” ¹⁰

¹⁰ Exec. Order 14161, 90 FR 8451 (Jan. 20, 2025) (published Jan. 30, 2025), https://www.federalregister.gov/documents/2025/01/30/2025-02009/protecting-the-united-states-from-foreign-terrorists-and-other-national-security-and-public-safety.

Mandating valid passport information at the time of the DV Program entry would augment vetting and screening processes to ensure national security. It would also make it more difficult for third parties to submit an unauthorized entry because they are less likely to have the individual's unique identifiers, protecting potential petitioners by ensuring that they alone can enter the program using their unique information. The information provided via a scanned image enhances identity (and therefore security) by reducing the likelihood of providing a fabricated passport number. As the Department's systems modernize, the Department may explore automatically pre-filling certain data fields [captured from the scan] in the DV Program entry to reduce typographical errors and entrant burden. In addition, the scan potentially provides new information—not otherwise collected—that may be relevant and critical to DV adjudication in ways that applicant self-disclosure does not provide:

Name: The foundation of all national security vetting starts with the applicant's name, which appears in the applicant's native alphabet on the passport. Requiring a scan of the principal applicant's biographical page will enable adjudicators to compare the spelling of the principal applicant's name in his or her native alphabet on the passport with the applicant's own [English-language] spelling in his or her petition, which may differ. Having this information will also enable the Department to conduct its security and other identity vetting measures in reliance on the principal applicant's name as provided in his or her original language, and to identify the various transliterations that may be associated with a particular name. Transliteration refers to the process of writing or printing a letter or word using the closest corresponding letters of a different alphabet or script. Likewise, Romanization, or Latinization, describes the process by which languages that normally do not use the Latin alphabet are converted into Latin letters. There are often several ways to Romanize a language. For the Russian language, the Soviet Union invented several systems, and the United Nations and the International Organization for Standardization invented two of the others. There are also several methods for converting names that are Arabic, Japanese, or Chinese in origin. Some Romanization systems are based on the writing system of the original language, some are based on speech in the original language, and some are based on both. In other words, some Romanization systems are based on transliteration, and others are based on transcription. Having the official transcription or transliteration of the principal applicant's name will ensure that our security and identity vetting starts with this basic official, verified information.

Place of Birth: Like the date of birth, the applicant's place of birth is foundational to our security, identity vetting, and screening. The place of birth is also foundational to the rules relating to foreign state of chargeability, including for purposes of determining the foreign state of which the principal applicant is a “native” under INA section 203(c). The numerical limitations prescribed in INA sections 201, 202, and 203 apply to foreign states and dependent areas. An IV applicant subject to these numerical limitations is generally chargeable to the numerical limitation applicable to the applicant's place of birth, with certain exceptions described in INA section 202(b). An IV applicant born in a dependent area is chargeable to the dependent area (to ensure compliance with the dependent-area limitation imposed in INA section 202), as well as to the foreign state on which the area is dependent. Currently, entrants to the Diversity Visa program self-select their foreign state of chargeability from the drop-down list provided on the DS-5501 form, and this information cannot be verified until the individual makes his or her application for a visa. Requiring verification of this information earlier in the program, via a scan of the biographic information page of the entrant's valid, unexpired passport, will enable the Department to better assess selectees' eligibility on the basis of their birth in, and chargeability to, a “low-admission” foreign state—a fundamental requirement of eligibility for the program under INA section 203(c).

Dates of issue and expiration: Issuance and expiration dates, as depicted on a passport scan, provide critical information about the status of the person in his or her own country that would not otherwise be available to the Department in the review of the applicant's case. Passports issued for a limited duration may indicate potential lines of inquiry relevant to a DV adjudication. For example, passports with a limited duration may be issued to fugitives, those indebted to the issuing government or to those who have outstanding child-support obligations. All this information may lead to information relevant to security, economic or other grounds of ineligibility under the INA.

Signature Page: The written signature (or usual mark, for those unable to sign) in a passport serves several security functions that help prevent fraud and ensure authenticity. First, it provides a unique, personal mark that can be compared against other official documents to confirm the passport holder's identity. Second, since handwritten signatures are difficult to replicate exactly, they add an additional layer of security against fraudulent passport alterations. Third, the signature validates that the passport is issued to the correct individual. Finally, the written signature page provides enhanced security screening by allowing adjudicating officers to compare an applicant's signature with their official records to detect discrepancies that could indicate identity fraud.

In addition to the above benefits derived from requiring a passport scan, requiring the unique identifying number of the passport would also enable the Department to more effectively identify and disqualify duplicate entries for a given fiscal year, as required under INA section 204(a)(1)(I)(i). The Department's fraud prevention experts confirmed that in the FY25 DV Program, over 2.5 million duplicate entries were disqualified pursuant to INA section 204(a)(1)(I)(i). Comparatively, during the FY22 DV Program, during which the passport requirement was in effect, only 760,079 duplicate entries were disqualified.

As a further example of how this rule can directly reduce fraud in the DV program, Embassy Tashkent (Uzbekistan) observed a reduction in the number of DV cases displaying these incomplete data from scammer submissions in the DV2022 and DV2023 program years, during which the passport requirement was in effect. The Embassy reported that the passport requirement temporarily forced visa brokers to update the biodata in a DV entrant's registration, disrupting the widespread practice of creating DV entries based on old or incomplete data.

Under the proposed rule, there would be three exceptions to the passport requirement:

1. The petitioner is stateless.

2. The petitioner is a national of a Communist-controlled country and unable to obtain a passport from the government of the Communist-controlled country.

3. The petitioner is the beneficiary of an individual waiver approved by the Secretary of Homeland Security and the Secretary of State.

These exceptions are consistent with the passport waivers for immigrant visa applicants provided for in 22 CFR 42.2(d), (e), and (g)(2). A petitioner must indicate that he or she falls into one of these three circumstances on the electronic entry form instead of providing information from their valid, unexpired passport.¹¹ A petitioner who fails to provide the required information on their entry form or who claims an exemption for which they are not later found to qualify may be disqualified. Petitioners would be advised to keep a scanned copy or photocopy of the passport they use to apply for the DV Program and may be denied if they are unable to produce sufficient proof that the passport number on their application was their valid passport at time of application.

¹¹ If a petitioner indicates on the DS-5501 form that he or she will request a waiver and is randomly selected to participate in the DV program, the consular officer will consider a passport waiver upon the petitioner`s completion of a visa application, consistent with 9 FAM 201.2-5 and, if appropriate, submit a request to issue a visa on form DS-232 (Unrecognized Passport or Waiver Cases). When approved by the Department and DHS (when necessary), the approval permits the use of the DS-232 in lieu of a passport.

Department fraud prevention experts confirm that because most countries' passports adhere to the International Civil Aviation Organizations (ICAO) standards, which require enhanced security features and biometric identification, requiring a passport is an additional effort to vet persons applying for entry to the United States and identify those who may intend to threaten our national security and U.S. interests. Passport information (via databases, personnel, or actual documents) should be the most guarded and difficult for scammers to access. Asking for a national ID is not as effective because not all countries, including the United States, have a national ID, and the reliability of such documents varies from country to country, but is generally considered lower than that of the national passport.

The Department also considered alternative means to discourage unauthorized third-party entries in the DV program but did not identify any options that could be implemented in countries with varying internet capacities or alternative unique identifiers that offered the same reliable means to confirm the petitioner's identity. The Department considered requiring multi-factor authentication, which would require the collection of email addresses and phone numbers. However, those identifiers are more easily obtained or fraudulently created by third parties. The Department also considered requiring live photos but ultimately determined that this option was not presently viable due to technological limitations in the application process.

While the Department anticipates that not all potential DV petitioners may have a passport at the time of DV entry, this requirement would significantly advance the Department's ability to confirm the identity of petitioners and conduct screening and vetting that are required for national security.

In addition to the passport requirements, the Department would synchronize all language in this chapter to reflect the use of the term “sex,” as directed in Section 2, paragraph (a) in Executive Order 14168, “Defending Women from Gender Ideology Extremism and Restoring Biological Truth to the Federal Government,” signed January 20, 2025.¹² The Department also proposes to standardize and amend language in 22 CFR part 42 including adding the word “shall” to simplify guidance for consular officers and replacing the term “age” in 22 CFR 42.33(h)(1)(i) with the phrase “date of birth” to accurately reflect the information collected and maintained by the Department during the immigrant visa process.

¹² Exec. Order 14168, 90 FR 8615 (Jan. 20, 2025) (published Jan. 30, 2025), https://www.federalregister.gov/documents/2025/01/30/2025-02090/defending-women-from-gender-ideology-extremism-and-restoring-biological-truth-to-the-federal.

IV. Benefits and Costs

Benefits

The requirement to include information from the alien's valid, unexpired passport at the time of entry to the DV Program would protect U.S. national security by enabling the Department to confirm a petitioner's identity at the entry stage and would help to deter third party or criminal organizations from submitting unauthorized and fraudulent entries. The requirement to provide a scanned image enhances identity (and therefore security) by reducing the likelihood of providing a fabricated passport number and will enable adjudicators to compare the spelling of the principal applicant's name in his or her native alphabet on the passport with the applicant's own English-language spelling in his or her petition. Having this information will also enable the Department to conduct its security and other identity vetting measures in reliance on the principal applicant's name as provided in his or her original language, and to identify the various transliterations that may be associated with a particular name.

Additionally, knowing an alien's place of birth will enable the consular adjudicator to confirm the foreign state of which the principal applicant is a “native” under INA section 203(c). The numerical limitations prescribed in INA sections 201, 202, and 203 apply to foreign states and dependent areas. An IV applicant subject to these numerical limitations is generally chargeable to his or her place of birth, with certain exceptions described in INA section 202(b). An IV applicant born in a dependent area is chargeable to the dependent area (to ensure compliance with the dependent-area limitation imposed in INA section 202), as well as to the foreign state on which the area is dependent. Currently, entrants to the Diversity Visa program self-select their foreign state of chargeability from the drop-down list provided on the DS-5501 form, and this information cannot be verified until the individual makes his or her application for a visa. Requiring verification of this information earlier in the program, via a scan of the biographic information page of the entrant's valid, unexpired passport, will enable the Department to better assess selectees' eligibility on the basis of their birth in, and chargeability to, a “low-admission” foreign state—a fundamental requirement of eligibility for the program under INA section 203(c).¹³

¹³ The Department acknowledges there may be cases in which the petitioner may benefit from chargeability derived from a spouse or other family member, consistent with INA 202(b) and 22 CFR 42.12.

Finally, collection of the dates of issue and expiration can provide critical information about the status of the person in his or her own country that would not otherwise be available to the Department in the review of the applicant's case. For example, passports issued for a limited duration period may indicate potential lines of inquiry that a consular officer finds relevant to a DV adjudication. All this information may lead to information relevant to security, economic or other grounds of ineligibility under the INA. The requirement to collect the signature page likewise serves several security functions and ensures both authenticity and that the passport was issued to the correct individual.

Costs

This proposed regulation would require some petitioners to obtain a passport at the time of application to the DV Program rather than after being selected for an interview. According to research conducted by the Visa Office of the Department's Bureau of Consular Affairs, the average price of a passport in countries that are eligible to participate in the DV Program is $74.43.¹⁴ The Department seeks public comment on the accuracy of its estimate of the average price of a passport in DV Program eligible countries as well as the unquantified burdens of obtaining a passport in those countries.

¹⁴ Statistics were compiled by reviewing publicly available information provided by foreign governments of DV-eligible countries. Currency conversions were completed using a leading commercial currency conversion source. For many countries, the fee for obtaining a passport was not clearly available on public sources. The Department also notes that there may be additional costs to obtaining a passport beyond the stated fee; the Department is unable to quantify such additional, unstated, or opportunity costs.

The Department estimates that, on average, responding to the new requirements in this information collection request would take approximately twenty minutes, which includes gathering the passport, supplying the number in the application, photographing or scanning the passport and uploading the image file. The Department estimates five minutes for the gathering of the passport and supplying the number and fifteen minutes for scanning and submitting the image. The Department assumes that most entrants will be able to quickly scan the passport with a single photo taken by a mobile phone. The International Civil Aviation Organization's passport specifications indicate that the signature will normally be on the biographic data page, though it may also be placed on the page adjacent to or on the back of the data page. When the signature is not on or adjacent to the data page, the entrant will need to combine two images into one. Although this can be accomplished on a mobile phone, it will take more time and skill, and it is possible that some entrants will seek assistance from a third party. The Department seeks comment on its estimate of these costs, including the prevalence of mobile phone usage among the population of DV program entrants.

To place a cost value on this effort, the Department analyzed wage data from the International Labor Organization ¹⁵ for countries eligible to participate in the DV Program for DV-2025.¹⁶ After filtering out non-DV eligible countries, 193 countries and territories remained. The ILO data set indicated the most recent year each country's data was obtained, which ranged from 2013 to 2023, with most of the data points being from 2018 and later. The analysis used average hourly wage when available; if not, minimum hourly wage was substituted. Most of the data was reported in U.S. dollars. For wages not listed in U.S. dollars, the wage listed was converted into U.S. dollars using average conversion rates from the year the data was obtained. The calculated wage was then averaged across all of the DV-eligible countries and determined to be $4.56 per hour. When converted to the 20-minute additional time burden, it yielded a time cost of $1.52 per response. Multiplied by the number of potential respondents based on the most recent cycles (25,000,000), the Department estimates the additional time cost at $38,000,000 globally.

¹⁵ See ILO.Org Wage Data Set: https://rplumber.ilo.org/data/indicator/?id=EAR_4HRL_SEX_OCU_CUR_NB_A&sex=SEX_T&classif1=OCU_SKILL_TOTAL&classif2=CUR_TYPE_LCU+CUR_TYPE_USD&type=label&format=.csv.

¹⁶ See Department's DV-2025 Program Instructions: https://travel.state.gov/content/dam/visas/Diversity-Visa/DV-Instructions-Translations/dv-2025-instructions-translations/DV-2025_Instructions-faqs.pdf.

Requirement Not Expected To Negatively Impact Program Outcomes

The Department does not believe that this requirement would substantially deter participation by legitimate petitioners, and the Department notes that petitioners who are selected are already required to have a passport before moving forward in the process. While the Department recognizes that the increased burden and cost of obtaining a passport before entering the DV program could, for the marginally legitimate entrant, deter participation and result in fewer annual entrants overall, the Department expects that all the available DVs will continue to be utilized and security of the program will be strengthened. The Department is unaware of reliable data on the rates of passport ownership in DV Program countries. To help better inform the analysis of benefits and costs of this rule, the Department seeks comment from the public on the rates of passport ownership in such countries. As mentioned above in Section III, this requirement was initially put in

place in 2019 ¹⁷ and was in effect for the 2021, 2022, and 2023 DV Program years.¹⁸ During this time, the Department was able to compare participation levels ¹⁹ both prior to and during the period in which aliens were required to include passport information with their DV entry:

¹⁷ See Visas: Diversity Immigrants, 84 FR 25989 (June 5, 2019).

¹⁸ See E.B. v. U.S. Dep't of State, 583 F. Supp. 3d 58 (D.D.C. 2022). In that case, the court held that the 2019 Interim Final Rule violated the Administrative Procedure Act because the Department should have pursued notice and comment rulemaking as it is undertaking here.

¹⁹ See Diversity Visa Program Statistics: https://travel.state.gov/content/travel/en/us-visas/immigrate/diversity-visa-program-entry/diversity-visa-program-statistics.html.

Table 1—Diversity Visa Program Participation Levels 2016-2023 Program Years
| Diversity visa program: Program year | Diversity visa program: Entrants | Diversity visa program: Selectees | Diversity visa program: Visas issued
Pre-Requirement | 2016 | 11,391,146 | 91,563 | 46,718
| 2017 | 12,437,190 | 83,910 | 49,976
| 2018 | 14,692,258 | 115,968 | 49,713
| 2019 | 14,352,013 | 87,610 | 45,889
| 2020 | 14,722,798 | 83,884 | * 19,125
Passport Requirement in Place | 2021 | * 6,741,128 | 132,404 | * 18,912
| 2022 | 7,336,302 | 119,021 | 55,882
| 2023 | 9,570,291 | 119,262 | 55,076
No Passport Required | ** 2024 | 23,823,436 | 78,767 | 54,554
* Impacted by COVID-19 pandemic.
** Program Year 2024 data is preliminary until the Department's Annual Report of the Visa Office is published.

Although the Department received fewer entries in the program years during which this requirement was in effect, in all years the Department received entries from more individuals from each of the six geographic regions created by INA section 203(c) than there were diversity visas available for each region, confirming that the Interim Final Rule was not unduly burdensome on nationals of any region and did not affect the Department's ability to fully implement the program as Congress intended.²⁰ In terms of the other language changes noted to comply with Executive Orders and provide clarity, the Department does not anticipate these to result in any additional costs.

²⁰ The Department's most recent data for program year 2023 on the number of selected entrants by country and region can be found at https://travel.state.gov/content/travel/en/us-visas/immigrate/diversity-visa-program-entry/dv-2023-selected-entrants.html. Historical data for program years 2011-2023 can be found at https://travel.state.gov/content/travel/en/us-visas/immigrate/diversity-visa-program-entry/diversity-visa-program-statistics.html.

Regulatory Findings

A. Administrative Procedure Act

The Secretary of State has determined that all policy related to visa operations and issuance, among other matters, constitutes a foreign affairs function of the United States under the Administrative Procedure Act (5 U.S.C. 553).²¹ However, due to the Department's interest in seeking public comment on this rulemaking, the Department is soliciting comments during a 45-day comment period, to which it will respond in a final rule, should the Department choose to finalize all or part of this proposal.

²¹ See Determination: Foreign Affairs Function of the United States, 90 FR 12200 (Mar. 14, 2025).

B. Regulatory Flexibility Act/Executive Order 13272: Small Business

This proposed rule would not regulate “small entities” as that term is defined in 5 U.S.C. 601(6) and as such would not have a significant economic impact on a substantial number of small entities. This NPRM only proposes to regulate individual visa applicants. The Department affirms that this proposed rule would not have a significant economic impact on a substantial number of small entities.

C. Unfunded Mandates Reform Act of 1995

The Unfunded Mandates Reform Act of 1995, 2 U.S.C. 1532, generally requires agencies to prepare a statement before proposing any rule that may result in an annual expenditure of $100 million or more by State, local, or Tribal governments, or by the private sector. This proposed rule does not require the Department to prepare a statement because it would not result in any such expenditure, nor would it significantly or uniquely affect small governments. This proposed rule involves visas, which involve foreign individuals, and does not directly or substantially affect state, local, or Tribal governments, or businesses.

D. Executive Order 12866 (Regulatory Planning and Review) and Executive Order 13563 (Improving Regulation and Regulatory Review)

Executive Orders 12866 (Regulatory Planning and Review) and 13563 (Improving Regulation and Regulatory Review), direct agencies to assess the costs and benefits of available regulatory alternatives and, if regulation is necessary, to select regulatory approaches that maximize net benefits. These Executive Orders stress the importance of quantifying both costs and benefits, of reducing costs, of harmonizing rules, and of promoting flexibility. The Office of Information and Regulatory Affairs has determined that this is a significant regulatory action under Section 3(f) of Executive Order 12866. A discussion of the estimated costs and benefits of the proposed rule can be found above and the Department welcomes comments, including alternative estimates, on its analysis.

E. Executive Orders 12372 and 13132: Federalism

This proposed regulation would not have substantial direct effects on the States, on the relationship between the national government and the States, or the distribution of power and responsibilities among the various levels of government. This proposed rule would also not have federalism implications warranting the application of Executive Orders 12372 and 13132.

F. Executive Order 12988: Civil Justice Reform

The Department has reviewed this proposed rule in light of sections 3(a) and 3(b)(2) of Executive Order 12988 to eliminate ambiguity, minimize litigation, establish clear legal standards, and reduce burdens.

G. Executive Order 14192—Unleashing Prosperity Through Deregulation

This rule is exempt from Executive Order 14192 as it is a regulation issued with respect to a foreign affairs, national security, homeland security and immigration-related function of the United States.

H. Executive Order 13175—Consultation and Coordination With Indian Tribal Governments

The Department has determined that this proposed rule would not have Tribal implications, would not impose substantial direct compliance costs on Indian Tribal governments, and would not pre-empt Tribal law. Accordingly, the requirements of Section 5 of Executive Order 13175 do not apply to this rulemaking.

I. Paperwork Reduction Act

The Department invites comment on any burden estimates included in the proposed collection of information. Comments are encouraged and will be accepted for 45 days from the publication date of this NPRM. All submission must include the OMB Control Number 1405-0153 in the body of the letter and the agency name. You may submit comments by any of the following methods:

• Web: Persons with access to the internet may comment on this notice by going to www.Regulations.gov. You can search for the document by entering “Docket Number: DOS-2025-0001” in the Search field. Then click the “Comment Now” button and complete the comment form.

• Email: PRA_BurdenComments@state.gov.

• Phone: 202-485-7586.

You must include the DS form number (if applicable), information collection title, and the OMB control number in any correspondence. As well as current contact information to allow us to respond.

Supplementary Information

• Title of Information Collection: Electronic Diversity Visa Entry Form.

• OMB Control Number: 1405-0153.

• Type of Request: Extension of a Currently Approved Collection.

• Originating Office: CA/VO.

• Form Number: DS-5501.

• Respondents: Diversity Visa Petitioners.

• Estimated Number of Respondents: 25,000,000.

• Estimated Number of Responses: 25,000,000.

• Average Time per Response: 50 minutes.

• Total Estimated Burden Time: 20,833,333.33 hours.

• Frequency: Annually.

• Obligation to Respond: Required to Obtain or Retain a Benefit.

Abstract of Proposed Collection

The Department of State utilizes the Electronic Diversity Visa Entry (DS-5501) to elicit information necessary to establish the eligibility of the petitioner for the DV Program. The two primary requirements of the program are: (1) the petitioner is a native of a low admission country, and (2) has at least a high school education or its equivalent, or within five years of the date of an application for a visa has two years of work experience in an occupation which requires at least two years of training or experience. The Department is proposing to amend the DS-5501 to require that entrants provide information for a valid, unexpired passport consistent with the notice of proposed rulemaking above. The Department of State randomly selects qualified petitioners for further participation in the program.

Methodology

The DS-5501 is available online at www.dvprogram.state.gov and can only be submitted electronically during the annual entry period.

List of Subjects in 22 CFR Part 42

Immigration, Passports and visas.

For the reasons stated in the preamble, the Department proposes to amend 22 CFR part 42 to read as follows:

PART 42—VISAS: DOCUMENTATION OF IMMIGRANTS UNDER THE IMMIGRATION AND NATIONALITY ACT, AS AMENDED

1. The authority citation for Part 42 reads as follows:

Authority: 22 U.S.C. 2651a; 8 U.S.C. 1104; 8 U.S.C. 1151; 8 U.S.C. 1153-1154; Pub. L. 105-277, 112 Stat. 2681-795 through 2681-801; 8 U.S.C. 1185 note (section 7209 of Pub. L. 108-458, as amended by section 546 of Pub. L. 109-295).

§ 42.33 [Amended]

2. Revise § 42.33 to read as follows:

(a) General—

(1) Eligibility to compete for consideration under section 203(c). An alien will be eligible to compete for consideration for visa issuance under INA 203(c) during a fiscal year only if he or she is a native of a low-admission foreign state, as determined by the Secretary of Homeland Security pursuant to INA 203(c)(1)(E), with respect to the fiscal year in question; and if he or she has at least a high school education or its equivalent or, within the five years preceding the date of application for a visa, has two years of work experience in an occupation requiring at least two years training or experience. The eligibility for a visa under INA 203(c) ceases at the end of the fiscal year in question. Under no circumstances may a consular officer issue a visa or other documentation to an alien after the end of the fiscal year during which an alien possesses diversity visa eligibility.

(2) Definition of high school education or its equivalent. For the purposes of this section, the phrase high school education or its equivalent means the successful completion of a twelve-year course of elementary and secondary education in the United States or successful completion in another country of a formal course of elementary and secondary education comparable to completion of twelve years' elementary and secondary education in the United States.

(3) Determinations of work experience. Consular officers shall use the Department of Labor's O*Net On Line to determine qualifying work experience.

(4) Limitation on number of petitions per year. No more than one petition may be submitted by, or on behalf of, any alien for consideration during any single fiscal year. If two or more petitions for any single fiscal year are submitted by, or on behalf of, any alien, all such petitions will be void pursuant to INA 204(a)(1)(I)(i) and the alien by or for whom the petition has been submitted will not be eligible for consideration for diversity visa issuance during the fiscal year in question.

(5) Northern Ireland. For purposes of determining eligibility to file a petition for consideration under INA 203(c) for a fiscal year, the districts comprising that portion of the United Kingdom of Great Britain and Northern Ireland, known as “Northern Ireland,” will be treated as a separate foreign state. The districts comprising “Northern Ireland” are Antrim, Ards, Armagh, Ballymena, Ballymoney, Banbridge, Belfast, Carrickfergus, Castlereagh, Coleraine, Cookstown, Craigavon, Down, Dungannon, Fermanagh, Larne, Limavady, Lisburn, Londonderry, Magherafelt, Moyle, Newry and Mourne, Newtownabbey, North Down, Omagh, and Strabane.

(b) Petition requirement. An alien claiming to be entitled to compete for consideration under INA 203(c) must file a petition with the Department of State for such consideration. At the alien petitioner's request, another person may file a petition on behalf of the alien. The petition will consist of an electronic entry form that the alien petitioner or a person acting on behalf of the alien petitioner must complete on-line and submit to the Department of State via a website established by the Department of State for the purpose of receiving such petitions. The Department will specify the address of the website prior to the commencement of the 30-day or greater period described in paragraph (b)(3) of this section using the notice procedure prescribed in that paragraph.

(1) Information to be provided in the petition. The electronic entry form mentioned in paragraph (b) of this section will require the person completing the form to provide the following information, typed in the Roman alphabet, regarding the petitioner:

(i) The petitioner's full name;

(ii) The petitioner's date and place of birth (including city and country);

(iii) The petitioner's sex;

(iv) The country of which the petitioner claims to be a native, if other than the country of birth;

(v) The name(s), date(s) and place(s) of birth and sex of the petitioner's spouse and child(ren), if any, (including legally adopted and step-children), regardless of whether or not they are living with the petitioner or intend to accompany or follow to join the petitioner should the petitioner immigrate to the United States pursuant to INA 203(c), but excluding a spouse or a child(ren) who is already a U.S. citizen or U.S. lawful permanent resident;

(vi) A current mailing address for the petitioner;

(vii) The location of the consular office nearest to the petitioner's current residence or, if in the United States, nearest to the petitioner's last foreign residence prior to entry into the United States, and

(viii) The unique serial or issuance number associated with the petitioner's valid, unexpired passport, petitioner name, country or authority of passport issuance, and expiration date, unless the petitioner would be exempt from the passport requirement pursuant to 22 CFR 42.2(d), (e), or (g)(2).

(2) Requirements for photographs. The petition will also require inclusion of a photograph of the petitioner and of his or her spouse and all unmarried children under the age of 21 years. The photographs must meet the following specifications:

(i) A digital image of the applicant from either a digital camera source or a scanned photograph via scanner. If scanned, the original photographic print must have been 2″ by 2″ (50mm × 50mm). Scanner hardware and digital image resolution requirements will be further specified in the public notice described in paragraph (b)(3) of this section.

(ii) The image must be in the Joint Photographic Experts Group (JPEG) File Interchange Format (JFIF) format.

(iii) The image must be in color.

(iv) The image must have been taken no more than six months prior to the date of the petition submission.

(v) The person being photographed must be directly facing the camera with the head neither tilted up, down, or to the side. The head must cover about 50% of the area of the photograph.

(vi) The photograph must be taken with the person in front of a neutral, light-colored background. Photos taken with very dark or patterned, busy backgrounds will not be accepted.

(vii) The person's face must be in focus.

(viii) The person in the photograph must not wear eyeglasses, sunglasses, or other paraphernalia that obstruct the view of the face.

(ix) A photograph with the person wearing a head covering or a hat is only acceptable if the covering or hat is worn specifically due to that person's religious beliefs, and even then, the hat or covering may not obscure any portion of the face. A photograph of a person wearing tribal, military, airline or other headgear not specifically religious in nature will not be accepted.

(3) Requirements for passport scans. The petition will also require a scan of the petitioner's biographic and signature page from their valid, unexpired passport. The scan must meet the following requirements:

(i) The image must be in the Joint Photographic Experts Group (JPEG) File Interchange Format (JFIF) format. No Portable Document Format (PDF) will be accepted.

(ii) The file size must not exceed 5 megabytes (MB).

(4) Submission of petition. A petition for consideration for visa issuance under INA 203(c) must be submitted to the Department of State by electronic entry to an internet website designated by the Department for that purpose. No fee will be collected at the time of submission of a petition, but a processing fee may be collected at a later date, as provided in paragraph (i) of this section. The Department will establish a period of not less than thirty days during each fiscal year within which aliens may submit petitions for approval of eligibility to apply for visa issuance during the following fiscal year. Each fiscal year the Department will give timely notice of both the website address and the exact dates of the petition submission period, as well as other pertinent information, through publication in the Federal Register and such other methods as will ensure the widest possible dissemination of the information, both abroad and within the United States.

(c) Processing of petitions. Entries received during the petition submission period established for the fiscal year in question and meeting all of the requirements of paragraph (b) of this section will be assigned a number in a separate numerical sequence established for each regional area specified in INA 203(c)(1)(F). Upon completion of the numbering of all petitions, all numbers assigned for each region will be separately rank-ordered at random by a computer using standard computer software for that purpose. The Department will then select in the rank orders determined by the computer program a quantity of petitions for each region estimated to be sufficient to ensure, to the extent possible, usage of all immigrant visas authorized under INA 203(c) for the fiscal year in question. The Department will consider petitions selected in this manner to have been approved for the purposes of this section.

(d) Validity of approved petitions. A petition approved pursuant to paragraph (c) of this section will be valid for a period not to exceed midnight of the last day of the fiscal year for which the petition was approved. At that time, the Department of State will consider approval of the petition to cease to be valid pursuant to INA 204(a)(1)(I)(ii)(II), which prohibits issuance of visas based upon petitions submitted and approved for a fiscal year after the last day of that fiscal year.

(e) Order of consideration. Consideration for visa issuance to aliens whose petitions have been approved pursuant to paragraph (c) of this section will be in the regional rank orders established pursuant that paragraph.

(f) Allocation of visa numbers. To the extent possible, diversity immigrant visa numbers will be allocated in accordance with INA 203(c)(1)(E) and will be allotted only during the fiscal year for which a petition to accord diversity immigrant status was submitted and approved. Under no circumstances will immigrant visa numbers be allotted after midnight of the last day of the fiscal year for which the petition was submitted and approved.

(g) Further processing. The Department will inform applicants whose petitions have been approved pursuant to paragraph (c) of this section of the steps necessary to meet the requirements of INA 222(b) in order to apply formally for an immigrant visa.

(h) Maintenance of certain information.

(1) The Department will compile and maintain the following information concerning petitioners to whom immigrant visas are issued under INA 203(c):

(i) Date of birth;

(ii) Country of birth;

(iii) Marital status;

(iv) Sex;

(v) Level of education; and

(vi) Occupation and level of occupational qualification.

(2) The Department will not maintain the names of visa recipients in connection with this information and the information will be compiled and maintained in such form that the identity of visa recipients cannot be determined therefrom.

(i) Diversity Visa Lottery fee. Consular officers shall collect, or ensure the collection of, the Diversity Visa Lottery fee from those persons who apply for a diversity immigrant visa, described in INA 203(c), after being selected by the diversity visa lottery program. The Diversity Visa Lottery fee, as prescribed by the Secretary of State, is set forth in the Schedule of Fees, 22 CFR 22.1.

* * * * *

John L. Armstrong,
Senior Bureau Official, Bureau of Consular Affairs, U.S. Department of State.

[FR Doc. 2025-14784 Filed 8-4-25; 8:45 am]

BILLING CODE 4710-06-P